EXPORT-IMPORT BANK

[Public Notice: 2015-6017]

Agency Information Collection Activities: Comment Request

AGENCY: Export-Import Bank of the United States.

ACTION: Submission for OMB review and comments request.

Form Title: EIB 11-05 Exporter's Certificate for Loan Guarantee & MT Insurance Programs.

SUMMARY: The Export-Import Bank of the United States (EXIM Bank), as part of its continuing effort to reduce paperwork and respondent burden, invites the general public and other Federal Agencies to comment on the proposed information collection, as required by the Paperwork Reduction Act of 1995.

EXIM Bank's borrowers, financial institution policy holders and guaranteed lenders provide this form to U.S. exporters, who certify to the eligibility of their exports for EXIM Bank support. For direct loans and loan guarantees, the completed form is required to be submitted at time of disbursement and held by either the guaranteed lender or EXIM Bank. For MT insurance, the completed forms are held by the financial institution, only to be submitted to EXIM Bank in the event of a claim filing.

EXIM Bank uses the referenced form to obtain information from exporters regarding the export transaction and content sourcing. These details are necessary to determine the value and legitimacy of EXIM Bank financing support and claims submitted. It also provides the financial institutions a check on the export transaction's eligibility at the time it is fulfilling a financing request.

The information collection tool can be reviewed at: http://www.exim.gov/sites/default/files/pub/pending/EIB11-05_MT_LT_Exporter_Certificate.pdf

DATES: Comments must be received on or before October 5, 2015 to be assured of consideration.

ADDRESSES: Comments may be submitted electronically on WWW.REGULATIONS.GOV or by mail to Michele Kuester, Export-Import Bank, 811 Vermont Ave. NW., Washington, DC 20571

SUPPLEMENTARY INFORMATION: Title and Form Number: EIB 11-05 Exporter's Certificate for Loan Guarantee & MT Insurance Programs

OMB Number: 3048-0043

Type of Review: Regular

Need and Use: The information collected will allow EXIM Bank to determine compliance and content for transaction requests submitted to the Export-Import Bank under its insurance, guarantee, and direct loan programs.

Affected Public:

This form affects entities involved in the export of U.S. goods and services.

Annual Number of Respondents: 4,000

Estimated Time per Respondent: 30 minutes

Annual Burden Hours: 2,000 hours

Frequency of Reporting of Use: As required

Government Expenses:

Reviewing time per year: 67 hours

Average Wages per Hour: $42.50

Average Cost per Year: (time*wages) $2,847.50

Benefits and Overhead: 20%

Total Government Cost: $3,417

Bonita Jones-McNeil,
Agency Clearance Officer, Office of the Chief Information Officer.

[FR Doc. 2015-19093 Filed 8-4-15; 8:45 am]

BILLING CODE 6690-01-P